DEPARTMENT OF HEALTH AND HUMAN SERVICES

Centers for Medicare & Medicaid Services

42 CFR Chapter IV

[CMS-6012-N3]

RIN 0938-AL13

Medicare Program; Negotiated Rulemaking Committee on Special Payment Provisions and Requirements for Prosthetics and Certain Custom-Fabricated Orthotics; Meeting Announcement

AGENCY: Centers for Medicare & Medicaid Services (CMS), HHS.

ACTION: Notice of meetings.

SUMMARY: In accordance with section 10(a) of the Federal Advisory Committee Act, this document announces additional public meetings of the Negotiated Rulemaking Committee on Special Payment Provisions and Requirements for Prosthetics and Certain Custom-Fabricated Orthotics. The Committee was mandated by section 427 of the Medicare, Medicaid, and SCHIP Benefits Improvement and Protection Act of 2000 (BIPA).

DATES: The next two negotiated rulemaking committee meetings will be held January 6 and 7, 2003; and February 10 and 11, 2003 from 9 a.m. to 5 p.m. e.s.t.

These meetings are open to the public, and subsequent meetings will be announced in the Federal Register.

ADDRESSES: The Committee meetings will be held at the Hilton Pikesville at 1726 Reisterstown Road, Baltimore, MD 21208, (Telephone 410-653-1100). Any subsequent meetings will be held at locations to be announced.

FOR FURTHER INFORMATION CONTACT:

Theresa Linkowich, (410) 786-9249 (General inquiries concerning prosthetics and custom-fabricated orthotics), Centers for Medicare & Medicaid Services (CMS), 7500 Security Blvd, Baltimore MD 21244; or

Lynn Sylvester, 202-606-9140, Federal Mediation and Conciliation Services, 2100 K Street, NW., Washington, DC 20427; or

Ira Lobel, 518-431-0130, Federal Mediation and Conciliation Services, 1 Clinton Square, Room 952, Albany, NY 12207.

SUPPLEMENTARY INFORMATION: We published a document in the Federal Register on July 26, 2002 (67 FR 48839), announcing the establishment of the negotiated rulemaking committee to advise us on developing a proposed rule that would establish special payment provisions and requirements for suppliers of prosthetics and certain custom-fabricated orthotics under the Medicare program. The document also announced dates for the Committee's first two meetings on October 1 to 3, 2002, and October 29 to 31, 2002.

Through face-to-face negotiations, these meetings will help the Committee to reach consensus on the substance of the proposed rule. If consensus is reached, the Committee will transmit to us a report containing required information for developing a proposed rule, and we will use the report as the basis for the proposed rule. The Committee is responsible for identifying the key issues, gauging their importance, analyzing the information necessary to resolve the issues, arriving at a consensus, and recommending the text and content of the proposed regulation. Detailed information is available on the CMS Internet Home Page: http://cms.hhs.gov/faca/prosthetic/ or by calling the Federal Advisory Committee Hotline at (410) 786-9379.

The agendas for the January 5 and 6, 2002 and February 10 and 11, 2002 meetings will cover the following:

1. Review of the October 29 to 31 minutes (January 5 and 6) and review of the January 5 and 6 minutes (February 10 and 11).

2. Workgroup presentations on orthotics and prosthetics.

3. Consensus on workgroup items.

4. Development of new workgroups (as applicable).

5. Presentation by the American Society of Hand Therapists (January 5 and 6).

6. Public comment period.

Public Participation

All interested parties are invited to attend these public meetings, but attendance is limited to the space available. No advance registration is required. Seating will be available on a first-come first'served basis. Individuals requiring sign language interpretation for the hearing impaired or other special accommodations should contact Theresa Linkowich, at e-mail address tlinkowich@cms.hhs.gov, or call (410) 786-9249 at least 10 days before the meeting. The Committee has the authority to decide to what extent oral presentations by members of the public may be permitted at the meeting. Oral presentations will be limited to statements of fact and views, and shall not include any questioning of the Committee members or other participants unless the facilitators have specifically approved these questions. The number of oral presentations may be limited by the time available.

Interested parties can file statements with the Committee. Mail written statements to the following address: Federal Mediation and Conciliation Services, 2100 K Street, NW., Washington, DC 20427, Attention: Lynn Sylvester, or call Lynn Sylvester at (202) 606-9140.

Additional Meetings

Meetings will be held as necessary. We will publish notices of future meetings in the Federal Register. All future meetings will be open to the public without advance registration.

Authority: Federal Advisory Committee Act (5 U.S.C. App. 2)

(Catalog of Federal Domestic Assistance Program No. 93.774, Medicare—Supplementary Medical Insurance Program)
Dated: November 19, 2002.
Thomas A. Scully,
Administrator, Centers for Medicare & Medicaid Services.

[FR Doc. 02-29795 Filed 11-21-02; 8:45 am]

BILLING CODE 4120-01-P